DEPARTMENT OF LABOR

Employment and Training Administration

[TA-W-61,976]

Intel Corporation, Mobile Wireless Networking Manufacturing/Operations Division, Hillsboro, OR; Notice of Negative Determination Regarding Application for Reconsideration

By application dated October 23, 2007, the petitioner requested administrative reconsideration of the Department's negative determination regarding eligibility to apply for Trade Adjustment Assistance (TAA), applicable to workers and former workers of the subject firm. The denial notice was signed on September 24, 2007 and published in the Federal Register on October 12, 2007 (72 FR 58131).

Pursuant to 29 CFR 90.18(c) reconsideration may be granted under the following circumstances:

(1) If it appears on the basis of facts not previously considered that the determination complained of was erroneous;

(2) if it appears that the determination complained of was based on a mistake in the determination of facts not previously considered; or

(3) if in the opinion of the Certifying Officer, a misinterpretation of facts or of the law justified reconsideration of the decision.

The petition for the workers of Intel Corporation, Mobile Wireless Networking Manufacturing/Operations Division, Hillsboro, Oregon engaged in production of wireless cards for notebook computers was denied because the “contributed importantly” group eligibility requirement of Section 222 of the Trade Act of 1974, as amended, was not met. The investigation revealed that worker separations at the subject firm are attributed to worldwide restructuring of the company to increase efficiencies. The investigation also revealed that production of wireless cards for notebook computers was shifted from the subject firm to Taiwan, which is not a party to a Free Trade Agreement with the United States or a beneficiary country. The subject firm did not import wireless cards for notebook computers and is not planning to import these products in the future.

The petitioner alleges that “activities were not restructured across the company”, but were rather outsourced to suppliers in Asia. The petitioner also alleges that production from the subject firm was shifted to China, not Taiwan.

The initial investigation did reveal that production was shifted from Intel Corporation, Mobile Wireless Networking Manufacturing/Operations Division, Hillsboro, Oregon to Taiwan and further to China. Neither Taiwan nor China are countries that are a party to Free Trade Agreements with the United States or beneficiary countries. Thus a shift in production to either China or Taiwan does not qualify workers of the subject firm eligible for TAA.

The subject firm reported no imports of wireless cards for notebook computers and there are no plans to import wireless cards for notebook computers from China or Taiwan.

Conclusion

After review of the application and investigative findings, I conclude that there has been no error or misinterpretation of the law or of the facts which would justify reconsideration of the Department of Labor's prior decision. Accordingly, the application is denied.

Signed in Washington, DC, this 5th day of December, 2007.
Linda G. Poole,
Certifying Officer, Division of Trade Adjustment Assistance.

[FR Doc. E7-24021 Filed 12-11-07; 8:45 am]

BILLING CODE 4510-FN-P